ENVIRONMENTAL PROTECTION AGENCY

40 CFR Part 300

[EPA-HQ-SFUND-2010-0636; FRL-10010-94-Region 2]

National Oil and Hazardous Substances Pollution Contingency Plan; National Priorities List: Deletion of the Hormigas Ground Water Plume Superfund Site

AGENCY: Environmental Protection Agency.

ACTION: Proposed rule; notice of intent.

SUMMARY: The Environmental Protection Agency (EPA) Region 2 is issuing a Notice of Intent to Delete the Hormigas Ground Water Plume Superfund Site (Site) located in Caguas, Puerto Rico, from the National Priorities List (NPL) and requests public comments on this proposed action. The NPL, promulgated pursuant to section 105 of the Comprehensive Environmental Response, Compensation, and Liability Act of 1980, as amended (CERCLA), is an appendix of the National Oil and Hazardous Substances Pollution Contingency Plan (NCP). The EPA and the Commonwealth of Puerto Rico, through the Department of Natural Resources and Environment, have determined that all appropriate response actions under CERCLA, have been completed. However, this deletion does not preclude future actions under Superfund.

DATES: Comments must be received by August 19, 2020.

ADDRESSES: Submit your comments, identified by Docket ID no. EPA-HQ-SFUND-2010-0636. Written comments submitted by mail are temporarily suspended and no hand deliveries will be accepted. We encourage the public to submit comments via https://www.regulations.gov following the detailed instructions in the ADDRESSES section of the direct final rule located in the rules section of this Federal Register.

The EPA is temporarily suspending its Docket Center and Regional Records Centers for public visitors to reduce the risk of transmitting COVID-19. In addition, many site information repositories are closed, and information in these repositories, including the deletion docket, has not been updated with hardcopy or electronic media. For further information and updates on the EPA Docket Center services, please visit us online at https://www.epa.gov/dockets.

The EPA continues to carefully and continuously monitor information from the Centers for Disease Control and Prevention (CDC), local area health departments, and our Federal partners so that we can respond rapidly as conditions change regarding COVID.

FOR FURTHER INFORMATION CONTACT: Dr. Adalberto Bosque, Remedial Project Manager, U.S. Environmental Protection Agency, Region 2, City View Plaza II-Suite 7000, 48 RD, 165 Km. 1.2, Guaynabo, PR 00968-8069, (787) 977-5825, email: bosque.adalberto@epa.gov.

You might also contact: Brenda Reyes, Community Involvement Coordinator, U.S. Environmental Protection Agency, Region 2, City View Plaza II-Suite 7000, 48 RD, 165 Km. 1.2, Guaynabo, PR 00968-8069, (787) 977-5825, email: reyes.brenda@epa.gov.

SUPPLEMENTARY INFORMATION: In the “Rules and Regulations” section of this issue of the Federal Register, we are publishing a direct final Notice of Deletion of Hormigas Ground Water Plume Superfund Site without prior Notice of Intent to Delete because we view this as a noncontroversial revision and anticipate no adverse comment. We have explained our reasons for this deletion in the preamble to the direct final Notice of Deletion, and those reasons are incorporated herein. If we receive adverse comment(s) on this deletion action, we will withdraw the direct final Notice of Deletion, and it will not take effect. We will, as appropriate, consider and address all public comments in a subsequent final Notice of Deletion based on this Notice of Intent to Delete, if such action is determined to be appropriate. If so, we will not institute a second comment period on this Notice of Intent to Delete. Any parties interested in commenting must do so at this time.

For additional information, see the direct final Notice of Deletion which is located in the “Rules and Regulations” section of this issue of the Federal Register.

List of Subjects in 40 CFR Part 300

Environmental protection, Air pollution control, Chemicals, Hazardous substances, Hazardous waste, Intergovernmental relations, Penalties, Reporting and recordkeeping requirements, Superfund, Water pollution control, Water supply.

Authority: 33 U.S.C. 1251 et seq.

Peter Lopez,
Regional Administrator, Region 2.

[FR Doc. 2020-15642 Filed 7-17-20; 8:45 am]

BILLING CODE 6560-50-P